DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 10, 2010. Address written comments to Statutory Import Programs Staff, Room 3720, U.S. Department of Commerce, Washington, DC 20230. Applications may be examined between 8:30 a.m. and 5 p.m. at the U.S. Department of Commerce in Room 3720.

Docket Number: 10-044. Applicant: University of Massachusetts Amherst, Biology Department, 611 N. Pleasant St., Amherst, MA 01003. Instrument: Electron Microscope. Manufacturer: FEI Company, Czech Republic. Intended Use: The instrument will be used to provide 3-dimensional images and support structural analysis using backscattered electrons and non-destructive chemical analysis using X-rays. Further, this instrument is capable of imaging with accelerating voltages as low as 50 V and has a resolution limit of 0.9 nm. Justification for Duty-Free Entry: There are no instruments of the same general category being manufactured in the United States. Application accepted by Commissioner of Customs: July 8, 2010.

Docket Number: 10-047. Applicant: Appalachian State University, 572 Rivers Street, Boone, NC 28608. Instrument: Electron Microscope. Manufacturer: JEOL, Ltd., Japan. Intended Use: Samples of plants, mouse, fish and optical fibers will be examined. Microtubules of the cells, proteins of the tissues and metallic nanostructures will be analyzed with the instrument. Justification for Duty-Free Entry: There are no instruments of the same general category being manufactured in the United States. Application accepted by Commissioner of Customs: June 30, 2010.

Docket Number: 10-048. Applicant: The University of Texas at El Paso, 500 West University Ave., El Paso, Texas 79968. Instrument: Electron Microscope. Manufacturer: JEOL, Ltd., Japan. Intended Use: The instrument will be used to collect images of highly magnified samples of proteins, protein complexes and supra-molecular assemblies such as bacteriophages and viruses. These images are then computationally processed to generate a 3-dimensional reconstruction of the original sample that was imaged in the microscope in only two dimensions. Justification for Duty-Free Entry: There are no instruments of the same general category being manufactured in the United States. Application accepted by Commissioner of Customs: July 1, 2010.

Docket Number: 10-050. Applicant: Stanford University School of Medicine, Board of Trustees of the Leland Stanford Junior University, Beckman Center, B001, 279 Campus Drive, Stanford, CA 94305-5301. Instrument: Electron Microscope. Manufacturer: JEOL, Ltd., Japan. Intended Use: The instrument will be used to discover new genes with essential functions in myelination, define new zebrafish models of important myelin disorders in humans, and provide new avenues toward therapies for myelin repair and prevention of axonal damage after demyelination. A reliable electron microscope with digital image acquisition is required for the lab's ultrastructural studies of myelination. Justification for Duty-Free Entry: There are no instruments of the same general category being manufactured in the United States. Application accepted by Commissioner of Customs: July 7, 2010.

Dated: July 14, 2010.
Christopher Cassel,
Director, IA Subsidies Enforcement Office.

[FR Doc. 2010-17797 Filed 7-20-10; 8:45 am]

BILLING CODE 3510-DS-P